DEPARTMENT OF TRANSPORTATION

Federal Aviation Administration

Notice of Intent To Rule on Application To Impose and Use the Revenue From a Passenger Facility Charge (PFC) at Northwest Alabama Regional Airport, Muscle Shoals, Alabama

AGENCY: Federal Aviation Administration (FAA), DOT.

ACTION: Notice of intent to rule on application.

SUMMARY: The FAA proposes to rule and invites public comment on the application to impose and use the revenue from a PFC at Northwest Alabama Regional Airport under the provisions of the Aviation Safety and Capacity Expansion Act of 1990 (Title IX of the Omnibus Budget Reconciliation Act of 1990) (Pub. L. 101-508) and Part 158 of the Federal Aviation Regulations (14 CFR part 158).

DATES: Comments must be received on or before September 8, 2004.

ADDRESSES: Comments on this application may be mailed or delivered in triplicate to the FAA at the following address: Jackson Airports District Office, 100 West Cross Street, Suite B; Jackson, MS 39208-2307.

In addition, one copy of any comments submitted to the FAA must be mailed or delivered to Mr. John B. Lehrter, Airport Director of the Northwest Alabama Regional Airport Authority, Inc., at the following address: 1729 T. Ed Campbell Drive, Suite A, Muscle Shoals, AL 35661-2016.

Air carriers and foreign air carriers may submit copies of written comments previously provided to the Northwest Alabama Regional Airport under section 158.23 of Part 158.

FOR FURTHER INFORMATION CONTACT: Mr. Roderick T. Nicholson, Program Manager, Jackson Airports District Office, 100 West Cross Street, Suite B; Jackson, MS 39208-2307, 601-664-9884. The application may be reviewed in person at this same location.

SUPPLEMENTARY INFORMATION: The FAA proposes to rule and invites public comment on the application to impose and use the revenue from a PFC at the Northwest Alabama Regional Airport under the provisions of the Aviation Safety and Capacity Expansion Act of 1990 (Title IX of the Omnibus Budget Reconciliation Act of 1990) (Pub. L. 101-508) and part 158 of the Federal Aviation Regulations (14 CFR part 158).

On July 23, 2004, the FAA determined that the application to impose and use the revenue from a PFC submitted by the Northwest Alabama Regional Airport Authority, Inc. was substantially complete within the requirements of § 158.25 of part 158. The FAA will approve or disapprove the application, in whole or in part, no later than October 26, 2004.

The following is a brief overview of the application.

PFC Application No.: 04-04-C-00-MSL.

Level of the proposed PFC: $3.00.

Proposed charge effective date: September 1, 2004.

Proposed charge expiration date: December 31, 2008.

Total estimated net PFC revenue: $57,355.00.

Brief description of proposed project(s): Construct Taxiway “E” (phase II and III); Acquire Americans with Disabilities (ADA) passenger lift device; Acquire Commuter Walk; Extend Taxiway “B” to Runway 18; and Rehabilitate/Sealcoat/Mark Runway 11-29 and Taxiway “A”.

Class or classes of air carriers which the public agency has requested not be required to collect PFCs: None.

Any person may inspect the application in person at the FAA office listed above under FOR FURTHER INFORMATION CONTACT.

In addition, any person may, upon request, inspect the application, notice and other documents germane to the application in person at the Northwest Alabama Regional Airport.

Issued in Jackson, AL, on July 23, 2004.
Rans D. Black,
Manager, Jackson Airports District Office, Southern Region.

[FR Doc. 04-18071 Filed 8-6-04; 8:45 am]

BILLING CODE 4910-13-M